Title 3—

The President

Notice of July 17, 2012—The Continuation of the National Emergency With Respect to the Former Liberian Regime of Charles Taylor

Correction

In Presidential document 2012-17703 beginning on page 42415 in the issue of Wednesday, July 18, 2012, make the following correction:

On page 42415, the date following “Notice of” should read “July 17, 2012”. Also, in the third paragraph of the main text, the words “Federal Register” should appear in italics.

[FR Doc. C1-2012-17703

Filed 07-31-12; 8:45 am]

Billing code 1505-01-D